DEPARTMENT OF AGRICULTURE

Food and Nutrition Service

Agency Information Collection Activities: Proposed Collection; Comment Request—School Nutrition Dietary Assessment Study-III

AGENCY: Food and Nutrition Service, USDA.

ACTION: Notice.

SUMMARY: In accordance with the Paperwork Reduction Act of 1995, this notice announces the Food and Nutrition Service's intention to request Office of Management and Budget approval for the collection of data for the School Nutrition and Dietary Assessment Study-III.

DATES: Written comments must be received on or before October 1, 2004.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Alberta Frost, Director, Office of Analysis, Nutrition and Evaluation, Food and Nutrition Service, U.S. Department of Agriculture, 3101 Park Center Drive, Alexandria, VA 22302. Comments may also be submitted via fax to the attention of Alberta Frost at 703-305-2576 or via e-mail to Alberta.Frost@fns.usda.gov.

All written comments will be open for public inspection at the office of the Food and Nutrition Service during regular business hours (8:30 a.m. to 5 p.m., Monday through Friday) at 3101 Park Center Drive, Alexandria, Virginia 22302, Room 1014.

All responses to this notice will be summarized and included in the request for OMB approval. All comments will be a matter of public record.

FOR FURTHER INFORMATION CONTACT: Requests for additional information or copies of this information collection should be directed to Alberta Frost at 703-305-2017.

SUPPLEMENTARY INFORMATION: Title: School Nutrition Dietary Assessment Study-III.

OMB Number: Not yet assigned.

Form Number: N/A.

Expiration Date: N/A.

Type of Request: New Collection of Information.

Abstract: The School Nutrition Dietary Assessment Study-III will collect and analyze data from a nationally representative sample of public schools participating in the National School Lunch Program (NSLP), and students in those schools. Data will be collected so as to provide sufficient information to examine the school environment, food service operating practices, student participation and other characteristics of schools and School Food Authorities (SFAs) in the NSLP and School Breakfast Program (SBP); examine school meal participation, participant/nonparticipant characteristics; determine the nutrient content and types of food offered and served to students; determine student dietary intakes and the impact of USDA meals on meal specific and total intake—at school and over twenty-four hours; and compare findings to previously conducted studies on school meals.

Estimate of Burden: Public reporting burden is estimated to be 60 minutes for SFA directors completing the mail questionnaire and assisting the kitchen managers in the menu survey; 25 minutes for the school principal completing the in-person interview; 20 minutes for the kitchen manager completing the in-person interview, plus 510 minutes for completing the mail menu survey; 125 minutes for elementary students completing the in-person interview alone and with a parent; 90 minutes for middle/high school students completing the in-person interview; 80 minutes for parents of elementary school students completing the in-person interview; and, 20 minutes for parents of middle/high school students completing the telephone interview.

Respondents: SFA directors, school principals and kitchen managers of public schools participating in the NSLP and elementary, middle and high school students attending those schools who may or may not be participants in the NSLP.

Estimated Number of Respondents: One hundred thirty-five SFA directors will complete a mail questionnaire and assist kitchen managers in a mail menu survey; 405 school principals will be interviewed in-person; 405 kitchen managers will be interviewed in-person and will complete a mail menu survey; 700 elementary students will be interviewed in-person initially with a subset of 175 to be interviewed a second time; 1720 middle/high school students will be interviewed in-person initially with a subset of 430 to be interviewed a second time; 700 parents of elementary school students will be interviewed in-person with a subset of 175 to be interviewed a second time; and, 1720 parents of middle/high school students will be interviewed by telephone.

Number of Responses per Respondent: SFA directors, school principals, and kitchen managers will respond one time; 75 percent of the students will respond one time and 25 percent will respond twice; 75 percent of parents of elementary school students will respond one time and 25 percent will respond twice; and, parents of middle/high school students will respond once.

Estimated Time per Response:

Respondents | Number | Minutes | Total minutes
SFA Director: mail survey | 135 | 60 | 8100
Principals: in-person | 405 | 25 | 10,125
Kitchen Manager: In-person interview | 405 | 20 | 8100
Mail menu survey | 405 | 510 | 206,550
Elementary students:
Initial in-person interview | 700 | 70 | 49,000
Second in-person interview | 175 | 55 | 9,625
Middle/HS students:
Initial in-person interview | 1720 | 55 | 94,600
Second in-person interview | 430 | 35 | 15,050
Elementary School Parents:
Initial in-person interview | 700 | 50 | 35,000
Second in-person interview | 175 | 30 | 5,250
Middle/High School Parents: Phone interview | 1720 | 20 | 34,400
Total Respondent Burden |  |  | 475,800

Estimated Total Annual Burden on Respondents: 7,930 hours.

Dated: July 27, 2004.
Roberto Salazar,
Administrator.

[FR Doc. 04-17484 Filed 7-30-04; 8:45 am]

BILLING CODE 3410-30-P